DEPARTMENT OF THE INTERIOR

Fish and Wildlife Service

[FWS-R6-ES-2008-N0097; 60120-1113-0000-D2]

Receipt of Application of Endangered Species Recovery Permits

AGENCY: Fish and Wildlife Service, Interior.

ACTION: Notice of availability and receipt of applications.

SUMMARY: We announce our receipt of applications to conduct certain activities pertaining to enhancement of survival of endangered species.

DATES: Written comments on this request for a permit must be received by July 7, 2008.

ADDRESSES: Written data or comments should be submitted to the Assistant Regional Director, Fisheries—Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

SUPPLEMENTARY INFORMATION: The following applicants have requested issuance of enhancement of survival permits to conduct certain activities with endangered species pursuant to Section 10(a)(1)(A) of the Endangered Species Act of 1973, as amended (16 U.S.C. 1531 et seq.).

Applicant: Montana Department of Fish, Wildlife, and Parks, Helena, Montana, TE-047250. The applicant requests a permit amendment to add rearing up to 1,500 pallid sturgeon (Scaphirhynchus albus) in lined, outdoor ponds and to possess 50 pallid sturgeon (Scaphirhynchus albus) mortalities for educational purposes in conjunction with recovery activities throughout the species' range for the purpose of enhancing its survival and recovery.

Applicant: Nebraska Game and Parks Commission, Lincoln, Nebraska, TE-069300. The applicant requests a permit amendment to allow removal of fin rays from recaptured hatchery reared pallid sturgeon (Scaphirhynchus albus) in conjunction with recovery activities throughout the species' range for the purpose of enhancing its survival and recovery.

Applicant: SWCA, Inc., Broomfield, Colorado, TE-047252. The applicant requests a renewed permit to survey for Southwestern willow flycatchers (Empidonax traillii extimus) in conjunction with recovery activities throughout the species' range for the purpose of enhancing their survival and recovery.

Applicant: U.S. Geological Survey, Colorado Plateau Division, Flagstaff, Arizona, TE-047257. The applicant requests a renewed permit to survey for Southwestern willow flycatchers (Empidonax traillii extimus) in conjunction with recovery activities throughout the species' range for the purpose of enhancing their survival and recovery.

Applicant: U.S. Fish and Wildlife Service, Region 6, Denver, Colorado, TE-704930. The applicant requests a renewal of this current permit for take activities for all listed species in the States of Colorado, Kansas, Montana, Nebraska, North Dakota, South Dakota, Utah, and Wyoming. This permit will allow Fish and Wildlife Service employees to lawfully conduct threatened or endangered species activities, in conjunction with recovery activities, throughout the species' range for the purpose of enhancing survival and recovery as outlined in Fish and Wildlife Service employees' position descriptions.

Applicant: Bureau of Land Management, Kanab Field Office, Kanab, Utah, TE-180540. The applicant requests a permit to survey for Southwestern willow flycatchers (Empidonax traillii extimus) and California condors (Gymnogyps californianus) in conjunction with recovery activities throughout the species' range for the purpose of enhancing their survival and recovery.

Dated: April 30, 2008.
Stephen D. Guertin,
Regional Director, Denver, Colorado.

[FR Doc. E8-12469 Filed 6-3-08; 8:45 am]

BILLING CODE 4310-55-P